DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT:

OFAC: Associate Director for Global Targeting, tel.: 202-622-2420; Assistant Director for Sanctions Compliance & Evaluation, tel.: 202-622-2490, or; Assistant Director for Licensing, tel.: 202-622-2480.

SUPPLEMENTARY INFORMATION:

Electronic Availability

The Specially Designated Nationals and Blocked Persons List and additional information concerning OFAC sanctions programs are available on OFAC's website (www.treas.gov/ofac).

Notice of OFAC Actions

The Secretary of State has determined that the following persons meet criteria for sanctions set forth in section 1244(d)(1)(A) of the Iran Freedom and Counter-Proliferation Act of 2012 (Pub. L. 112-239) (22 U.S.C. 8801 et seq.) (IFCA) and has selected sanctions described in section 6(a) of the Iran Sanctions Act of 1996 (Pub. L. 104-172) (50 U.S.C. 1701 note) (ISA) to be imposed with respect to these persons. Accordingly, on October 19, 2020, the Director of OFAC, acting pursuant to delegated authority, has taken the actions described below to impose sanctions set forth in sections 5(a)(i)-5(a)(v) and 5(a)(vii) of Executive Order 13846 with respect to the persons listed below. The below descriptions also reflect the actions taken on October 19, 2020 by the Secretary of State with respect to sanctions set forth in section 4(e) of Executive Order 13846 and communicated to the Director of OFAC for publication.

Individuals

1. CHEN, Eric (a.k.a. CHEN, Guo Ping; a.k.a. CHEN, Guoping), Rm 601, No 15, Lane 1299, Dingxiang Rd, Pudong New Area, Shanghai, China; DOB 02 Aug 1968; citizen China; Gender Male; Executive Order 13846 information: LOANS FROM UNITED STATES FINANCIAL INSTITUTIONS. Sec. 5(a)(i); alt. Executive Order 13846 information: FOREIGN EXCHANGE. Sec. 5(a)(ii); alt. Executive Order 13846 information: BANKING TRANSACTIONS. Sec. 5(a)(iii); alt. Executive Order 13846 information: BLOCKING PROPERTY AND INTERESTS IN PROPERTY. Sec. 5(a)(iv); alt. Executive Order 13846 information: BAN ON INVESTMENT IN EQUITY OR DEBT OF SANCTIONED PERSON. Sec. 5(a)(v); alt. Executive Order 13846 information: EXCLUSION OF CORPORATE OFFICERS. Sec. 4(e); Passport ED6535652 (China); alt. Passport G51625684 (China); National ID No. 320919196808023493 (China); Chief Executive Officer, Reach Group; Director, Reach Shipping Lines (individual) [IFCA] (Linked To: REACH HOLDING GROUP SHANGHAI CO., LTD.).

Subject to sanctions described in sections 4(e) and 5(a)(i)-5(a)(v) of Executive Order 13846 of August 6, 2018, 83 FR 38939, 3 CFR, 2019 Comp., p. 854 (E.O. 13846), as described in sections 6(a)(3) and 6(a)(6)-(10) of ISA.

2. HE, Daniel Y. (a.k.a. HE, Daniel Yi; a.k.a. HE, Yi), China; DOB 06 Jul 1965; POB Hangzhou, China; nationality China; Gender Male; Executive Order 13846 information: LOANS FROM UNITED STATES FINANCIAL INSTITUTIONS. Sec. 5(a)(i); alt. Executive Order 13846 information: FOREIGN EXCHANGE. Sec. 5(a)(ii); alt. Executive Order 13846 information: BANKING TRANSACTIONS. Sec. 5(a)(iii); alt. Executive Order 13846 information: BLOCKING PROPERTY AND INTERESTS IN PROPERTY. Sec. 5(a)(iv); alt. Executive Order 13846 information: BAN ON INVESTMENT IN EQUITY OR DEBT OF SANCTIONED PERSON. Sec. 5(a)(v); alt. Executive Order 13846 information: EXCLUSION OF CORPORATE OFFICERS. Sec. 4(e); Passport G47432853 (China); alt. Passport G30884221 (China); President, Reach Group (individual) [IFCA] (Linked To: REACH HOLDING GROUP SHANGHAI CO., LTD.).

Subject to sanctions described in sections 4(e) and 5(a)(i)-5(a)(v) of E.O. 13846, as described in sections 6(a)(3) and 6(a)(6)-(10) of ISA.

Entities

1. DELIGHT SHIPPING COMPANY LIMITED (a.k.a. DELIGHT SHIPPING CO LTD), Flat 302, 3/F, The Strand, 49 Bonham Strand, Sheung Wan, Hong Kong, China; Room 2604, 26th Floor, Nam Wo Hong Building, 148 Wing Lok Street, Sheung Wan, Hong Kong, China; Executive Order 13846 information: LOANS FROM UNITED STATES FINANCIAL INSTITUTIONS. Sec. 5(a)(i); alt. Executive Order 13846 information: FOREIGN EXCHANGE. Sec. 5(a)(ii); alt. Executive Order 13846 information: BANKING TRANSACTIONS. Sec. 5(a)(iii); alt. Executive Order 13846 information: BLOCKING PROPERTY AND INTERESTS IN PROPERTY. Sec. 5(a)(iv); alt. Executive Order 13846 information: BAN ON INVESTMENT IN EQUITY OR DEBT OF SANCTIONED PERSON. Sec. 5(a)(v); C.R. No. 2563215 (Hong Kong); Identification Number IMO 6003121 [IFCA].

Subject to sanctions described in sections 5(a)(i)-5(a)(v) of E.O. 13846, as described in sections 6(a)(3) and 6(a)(6)-(9) of ISA.

2. GRACIOUS SHIPPING COMPANY LIMITED (a.k.a. GRACIOUS SHIPPING CO LTD), Flat 302, 3/F, The Strand, 49 Bonham Strand, Sheung Wan, Hong Kong, China; Room 2604, 26th Floor, Nam Wo Hong Building, 148 Wing Lok Street, Sheung Wan, Hong Kong, China; Executive Order 13846 information: LOANS FROM UNITED STATES FINANCIAL INSTITUTIONS. Sec. 5(a)(i); alt. Executive Order 13846 information: FOREIGN EXCHANGE. Sec. 5(a)(ii); alt. Executive Order 13846 information: BANKING TRANSACTIONS. Sec. 5(a)(iii); alt. Executive Order 13846 information: BLOCKING PROPERTY AND INTERESTS IN PROPERTY. Sec. 5(a)(iv); alt. Executive Order 13846 information: BAN ON INVESTMENT IN EQUITY OR DEBT OF SANCTIONED PERSON. Sec. 5(a)(v); C.R. No. 2563281 (Hong Kong); Identification Number IMO 6003094 [IFCA].

Subject to sanctions described in sections 5(a)(i)-5(a)(v) of E.O. 13846, as described in sections 6(a)(3) and 6(a)(6)-(9) of ISA.

3. NOBLE SHIPPING COMPANY LIMITED (a.k.a. NOBLE SHIPPING CO LTD), Flat 302, 3/F, The Strand, 49 Bonham Strand, Sheung Wan, Hong Kong, China; Room 2604, 26th Floor, Nam Wo Hong Building, 148 Wing Lok Street, Sheung Wan, Hong Kong, China; Executive Order 13846 information: LOANS FROM UNITED STATES FINANCIAL INSTITUTIONS. Sec. 5(a)(i); alt. Executive Order 13846 information: FOREIGN EXCHANGE. Sec. 5(a)(ii); alt. Executive Order 13846 information: BANKING TRANSACTIONS. Sec. 5(a)(iii); alt. Executive Order 13846 information: BLOCKING PROPERTY AND INTERESTS IN PROPERTY. Sec. 5(a)(iv); alt. Executive Order 13846 information: BAN ON INVESTMENT IN EQUITY OR DEBT OF SANCTIONED PERSON. Sec. 5(a)(v); C.R. No. 2563285 (Hong Kong); Identification Number IMO 6003103 [IFCA].

Subject to sanctions described in sections 5(a)(i)-5(a)(v) of E.O. 13846, as described in sections 6(a)(3) and 6(a)(6)-(9) of ISA.

4. REACH HOLDING GROUP SHANGHAI CO., LTD. (a.k.a. REACH HOLDING GROUP; a.k.a. RENDA INVESTMENT HOLDING GROUP SHANGHAI CO LTD; a.k.a. “REACH GROUP”), Suite F-G, 24/F., World Plaza, No. 855, South Pu Dong Road, Shanghai 200120, China; Suite F-G, 24th Floor, World Plaza, 855, Pudong Nanlu, Pudong Xinqu, Shanghai 200120, China; Part 30, Floor 4, Building 1, No. 39, Jiatai Road, Pilot Free Tra, Shanghai 200120, China; Executive Order 13846 information: BANKING TRANSACTIONS. Sec. 5(a)(iii); alt. Executive Order 13846 information: LOANS FROM UNITED STATES FINANCIAL INSTITUTIONS. Sec. 5(a)(i); alt. Executive Order 13846 information: FOREIGN EXCHANGE. Sec. 5(a)(ii); alt. Executive Order 13846 information: BLOCKING PROPERTY AND INTERESTS IN PROPERTY. Sec. 5(a)(iv); alt. Executive Order 13846 information: BAN ON INVESTMENT IN EQUITY OR DEBT OF SANCTIONED PERSON. Sec. 5(a)(v); alt. Executive Order 13846 information: SANCTIONS ON PRINCIPAL EXECUTIVE OFFICERS. Sec. 5(a)(vii); alt. Executive Order 13846 information: EXCLUSION OF CORPORATE OFFICERS. Sec. 4(e) [IFCA].

Subject to sanctions described in sections 4(e), 5(a)(i)-5(a)(v), and 5(a)(vii) of E.O. 13846, as described in sections 6(a)(3) and 6(a)(6)-(11) of ISA.

5. REACH SHIPPING LINES HONG KONG CO., LIMITED (a.k.a. REACH SHIPPING LINES; a.k.a. “REACH SHIPPING”), Unit 2508A 25/F Bank of America Tower 12 Harcourt Rd, Central Hong Kong, Hong Kong, China; RM3403, Qingdao International Finance Center Hongkong MD Road, Qingdao, China; Executive Order 13846 information: LOANS FROM UNITED STATES FINANCIAL INSTITUTIONS. Sec. 5(a)(i); alt. Executive Order 13846 information: FOREIGN EXCHANGE. Sec. 5(a)(ii); alt. Executive Order 13846 information: BANKING TRANSACTIONS. Sec. 5(a)(iii); alt. Executive Order 13846 information: BLOCKING PROPERTY AND INTERESTS IN PROPERTY. Sec. 5(a)(iv); alt. Executive Order 13846 information: BAN ON INVESTMENT IN EQUITY OR DEBT OF SANCTIONED PERSON. Sec. 5(a)(v); C.R. No. 2720944 (Hong Kong) [IFCA].

Subject to sanctions described in sections 5(a)(i)-5(a)(v) of E.O. 13846, as described in sections 6(a)(3) and 6(a)(6)-(9) of ISA.

6. SUPREME SHIPPING COMPANY LIMITED (a.k.a. SUPREME SHIPPING CO LTD), Flat 302, 3/F, The Strand, 49 Bonham Strand, Sheung Wan, Hong Kong, China; Room 2604, 26th Floor, Nam Wo Hong Building, 148 Wing Lok Street, Sheung Wan, Hong Kong, China; Executive Order 13846 information: LOANS FROM UNITED STATES FINANCIAL INSTITUTIONS. Sec. 5(a)(i); alt. Executive Order 13846 information: FOREIGN EXCHANGE. Sec. 5(a)(ii); alt. Executive Order 13846 information: BANKING TRANSACTIONS. Sec. 5(a)(iii); alt. Executive Order 13846 information: BLOCKING PROPERTY AND INTERESTS IN PROPERTY. Sec. 5(a)(iv); alt. Executive Order 13846 information: BAN ON INVESTMENT IN EQUITY OR DEBT OF SANCTIONED PERSON. Sec. 5(a)(v); C.R. No. 2563315 (Hong Kong); Identification Number IMO 6003117 [IFCA].

Subject to sanctions described in sections 5(a)(i)-5(a)(v) of E.O. 13846, as described in sections 6(a)(3) and 6(a)(6)-(9) of ISA.

Dated: October 19, 2020.
Andrea M. Gacki,
Director, Office of Foreign Assets Control.

[FR Doc. 2020-23440 Filed 10-21-20; 8:45 am]

BILLING CODE 4810-AL-P